DEPARTMENT OF HOMELAND SECURITY

Federal Emergency Management Agency

[Docket ID: FEMA-2013-0019; OMB No. 1660-0026]

Agency Information Collection Activities; Proposed Collection; Comment Request

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the State Administrative Plan for the procedural guide that details how the State will administer the HMGP.

DATES: Comments must be submitted on or before August 12, 2013.

ADDRESSES: To avoid duplicate submissions to the docket, please use only one of the following means to submit comments:

(1) Online. Submit comments at www.regulations.gov under Docket ID FEMA-2013-0019. Follow the instructions for submitting comments.

(2) Mail. Submit written comments to Docket Manager, Office of Chief Counsel, DHS/FEMA, 500 C Street SW., Room 835, Washington, DC 20472-3100.

(3) Facsimile. Submit comments to (703) 483-2999.

(4) Email. Submit comments to FEMA-POLICY@dhs.gov. Include Docket ID FEMA-2013-0019 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Cecelia Rosenberg, Chief, Grants Policy Branch, Mitigation Division, at (202) 646-3321 for additional information. You may contact the Records Management Division for copies of the proposed collection of information at facsimile number (202) 646-3347 or email address: FEMA-Information-Collections-Management@dhs.gov.

SUPPLEMENTARY INFORMATION: FEMA regulations in 44 CFR 206.437 require development and update of the State Administrative Plan by State Grantees as a condition of receiving Hazard Mitigation Grant Program (HMGP) funding under section 404 of the Robert T. Stafford Disaster Relief and Emergency Assistance Act of 1988, 42 U.S.C. 5170c. Grantees can be any State of the United States, the District of Columbia, Puerto Rico, the Virgin Islands, Guam, American Samoa, and the Commonwealth of the Northern Mariana Islands, or an Indian tribal government that chooses to act as a grantee. A State is defined in 44 CFR part 13 as any of the several States of the United States, the District of Columbia, the Commonwealth of Puerto Rico, any territory or possession of the United States, or any agency or instrumentality of a State exclusive of local governments. Section 404 mandates FEMA approval of the State Administrative Plan before awarding any project grant assistance to a community or State applicant.

Collection of Information

Title: State Administrative Plan for the Hazard Mitigation Grant Program.

Type of Information Collection: Extension, without change, of a currently approved information collection.

FEMA Forms: None.

Abstract: The State Administrative Plan is a procedural guide that details how the State will administer the HMGP. The State must have a current administrative plan approved by the appropriate FEMA Regional Administrator before receiving HMGP funds. The administrative plan may take any form including a chapter within a comprehensive State mitigation program strategy.

Affected Public: State, local or Tribal government.

Number of Respondents: 32.

Number of Responses: 64.

Estimated Total Annual Burden Hours: 512.

Estimated Cost: There are no record keeping, capital, start-up or maintenance costs associated with this information collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 4, 2013.
Charlene D. Myrthil,
Director, Records Management Division, Mission Support Bureau, Federal Emergency Management Agency, Department of Homeland Security.

[FR Doc. 2013-13919 Filed 6-11-13; 8:45 am]

BILLING CODE 9111-13-P